DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons whose property and interests in property have been unblocked and who have been removed from the Specially Designated Nationals and Blocked Persons List (SDN List).

DATES: See SUPPLEMENTARY INFORMATION section for applicable date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On September 6, 2023, OFAC determined that the property and interests in property subject to U.S. jurisdiction of the following persons are unblocked and they have been removed from the SDN List.

Individuals

1. MEJIA MUNERA, Miguel Angel Melchor (a.k.a. MEJIA MUNERA, Miguel Angel; a.k.a. “COMANDANTE PABLO”; a.k.a. “LOS MELLIZOS”; a.k.a. “PABLO MEJIA”), c/o CIA COMERCIALIZADORA DE BIENES RAICES LTDA., Cali, Colombia; Calle 9F No. 24-98, Cali, Colombia; DOB 11 Jul 1959; POB Cali, Colombia; nationality Colombia; citizen Colombia; Cedula No. 16627309 (Colombia); Passport AC744430 (Colombia) (individual) [SDNT].

2. MEJIA MUNERA, Victor Manuel (a.k.a. “DON SEBASTIAN”; a.k.a. “LOS MELLIZOS”; a.k.a. “PABLO ARAUCA”), Colombia; DOB 11 Jul 1959; POB Cali, Colombia; nationality Colombia; citizen Colombia; Cedula No. 16627308 (Colombia); Passport AE313327 (Colombia) (individual) [SDNT].

3. GONZALEZ RODRIGUEZ, Diosde, Bogota, Colombia; DOB 18 Apr 1957; POB Maripi, Boyaca, Colombia; citizen Colombia; Gender Male; Cedula No. 4196782 (Colombia) (individual) [SDNTK] (Linked To: INVERSIONES DE OCCIDENTE LTDA.).

4. DAMIAN RAMIREZ, Irma Lizet, Dominico Scarlatti 260, Col. Vallarta La Patria, Zapopan, Jalisco, Mexico; Montevideo 2590, Col. Providencia, Guadalajara, Jalisco, Mexico; Av. Universidad 1151 Int. 3-H, Col. Puerta Aqua, Zapopan, Jalisco, Mexico; DOB 04 Apr 1981; POB Tecuala, Nayarit, Mexico; citizen Mexico; Gender Female; R.F.C. DARI810404P98 (Mexico); C.U.R.P. DARI810404MJCMMR00 (Mexico); alt. C.U.R.P. DARI810404MNTMMR04 (Mexico) (individual) [SDNTK] (Linked To: FLORES DRUG TRAFFICKING ORGANIZATION; Linked To: CONSORCIO VINICOLA DE OCCIDENTE, S.A. DE C.V.).

Entities:

1. CIA COMERCIALIZADORA DE BIENES RAICES LTDA. (a.k.a. COBIENES LTDA.; f.k.a. MEJIA MUNERA HERMANOS LTDA.), Cali, Colombia; NIT # 8000689284 (Colombia) [SDNT].

2. INVERSIONES DE OCCIDENTE LTDA., Carrera 14 No. 104—10, Bogota, Colombia; NIT # 830071741-4 (Colombia) [SDNTK].

3. CONSORCIO VINICOLA DE OCCIDENTE, S.A. DE C.V., Zapopan, Jalisco, Mexico; Folio Mercantil No. 10740 (Jalisco) (Mexico) [SDNTK].

Signed: September 5, 2023.
Gregory T. Gatjanis,
Associate Director, Office of Foreign Assets Control, U.S. Department of the Treasury.

[FR Doc. 2023-19505 Filed 9-8-23; 8:45 am]

BILLING CODE 4810-AL-P